DEPARTMENT OF HOMELAND SECURITY

Federal Emergency Management Agency

44 CFR Part 67

Final Flood Elevation Determinations

AGENCY: Federal Emergency Management Agency, Emergency Preparedness and Response Directorate, Department of Homeland Security.

ACTION: Final rule.

SUMMARY: Base (1% annual-chance) Flood Elevations and modified Base Flood Elevations (BFEs) are made final for the communities listed below. The BFEs and modified BFEs are the basis for the floodplain management measures that each community is required either to adopt or to show evidence of being already in effect in order to qualify or remain qualified for participation in the National Flood Insurance Program (NFIP).

EFFECTIVE DATE: The date of issuance of the Flood Insurance Rate Map (FIRM) showing BFEs and modified BFEs for each community. This date may be obtained by contacting the office where the FIRM is available for inspection as indicated in the table below.

ADDRESSES: The final base flood elevations for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below of BFEs and modified BFEs for each community listed. These modified elevations have been published in newspapers of local circulation and ninety (90) days have elapsed since that publication. The Mitigation Division Director of the Emergency Preparedness and Response Directorate has resolved any appeals resulting from this notification.

This final rule is issued in accordance with section 110 of the Flood Disaster Protection Act of 1973, 42 U.S.C. 4105, and 44 CFR part 67.

The Federal Emergency Management Agency has developed criteria for floodplain management in floodprone areas in accordance with 44 CFR part 60.

Interested lessees and owners of real property are encouraged to review the proof Flood Insurance Study and FIRM available at the address cited below for each community.

The BFEs and modified BFEs are made final in the communities listed below. Elevations at selected locations in each community are shown.

National Environmental Policy Act. This rule is categorically excluded from the requirements of 44 CFR part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | #Depth in feet above ground. *Elevation in feet (NGVD) modified ◆Elevation in feet (NAVD) modified
Iowa | La Porte City (City) Black Hawk County (FEMA Docket No. P7633) | Cedar River | Approximately 2100 feet downstream of La Porte Road | ◆814
|  |  | Approximately 6,500 feet upstream of La Porte Road | ◆815
Iowa | La Porte City (City) Black Hawk County (FEMA Docket No. P7633) | Wolf Creek | Approximately 2,100 feet downstream of Illinois Central Gulf Railroad | ◆815
|  |  | Approximately 7,550 feet upstream of Main Street | ◆824
|  | Wolf Creek Overflow | Approximately 2,700 feet downstream of Illinois Central Gulf Railroad | ◆815
|  |  | Approximately 1,7500 feet upstream of Commercial Street | ◆823
Maps are available for inspection at City Hall, 202 Main Street, La Porte City, Iowa.
Minnesota | Jackson (City) Jackson County (FEMA Docket No. P7637) | West Fork Des Moines River | At the corporate limit, approximately 2,000 feet downstream of the confluence of Nelson Creek | *1,304
|  |  | At the corporate limit, about 3,200 feet downstream of Interstate 90 | *1,314
Maps are available for inspection at City Hall, 80 West Ashley Street, Jackson, Minnesota.
Ohio | Dublin (City) Franklin County (FEMA Docket No. P7633) | North Fork Indian Run | Approximately 100 feet upstream of confluence with Indian Run and South Fork Indian Run | *799
|  |  | At county boundary, approximately 1,00 feet upstream of Wareham Drive | *923
|  | South Fork Indian Run | Approximately 40 feet upstream from confluence with Indian Run and North Fork Indian Run | *799
|  |  | Approximately 400 feet upstream of confluence with Indian Run and North Fork Indian Run | *818
|  |  | Approximately 300 feet downstream of Post Road | *923
|  |  | Just downstream of Post Road | *927
|  | Indian Run | Approximately 50 feet upstream of North High Street culvert | *781
|  |  | At confluence of North Fork Indian Run and South Fork Indian Run | *799
Maps are available for inspection at the Dublin Engineering Building, 5800 Shier-Rings Road, Dublin, Ohio.
Wisconsin | Fond du Lac County (Unincorporated Areas) (FEMA Docket No. P7633) | Anderson Creek | Approximately 200 feet upstream of U.S. Highway 45 | *750
|  |  | Just upstream of Melody Lane Crossing about 150 feet east of Pioneer Road | *802
|  | Mosher Creek | Just upstream of U.S. Highway 45 | *750
|  |  | Just downstream of Rolling Meadows Drive | *780
Maps are available for inspection at the Municipal Office, City/County Government Center, 160 South Macy Street, Fond du Lac, Wisconsin.
Wisconsin | North Fond du Lac (Village) Fond du Lac County (FEMA Docket No. P7633) | Anderson Creek | Approximately 1,150 feet upstream of Minnesota Avenue | *772
|  |  | Approximately 1.3 miles upstream of Minnesota Avenue | *782
|  | Mosher Creek | At the eastern corporate limit, approximately 2,000 feet downstream of Marcoe Street | *753
|  |  | Approximately 50 feet downstream of Rolling Meadows Drive | *780
|  | Lake Winnebago | Shoreline | *750
Maps are available for inspection at the Village Municipal Office, 16 Garfield Street, North Fond du Lac, Wisconsin.

(Catalog of Federal Domestic Assistance No. 83.100, “Flood Insurance.”)
Dated: November 4, 2003.
Anthony S. Lowe,
Mitigation Division Director, Emergency Preparedness and Response Directorate.

[FR Doc. 03-28636 Filed 11-14-03; 8:45 am]

BILLING CODE 9110-12-P